DEPARTMENT OF ENERGY

Federal Energy Regulatory Commission

[Docket Nos. RP03-533-000, RP03-540-000 and RP99-176-089]

Northern Natural Gas Company, Transcontinental Gas Pipe Line Corporation and Natural Gas Pipeline Company of America; Notice Further Deferring Submission of Staff Reports

April 19, 2004.

1. On July 31, 2003, and August 8, 2003, respectively, the Commission issued orders accepting and suspending certain tariff sheets, subject to further proceedings, in Northern Natural Gas Company, Docket No. RP03-533-000, Transcontinental Gas Pipe Line Corporation, Docket No RP03-540-000, and Natural Gas Pipeline Company of America, Docket No. RP99-176-089. In those orders, the Commission accepted tariff sheets making changes in natural gas price indices referred to in the tariffs of each company. In all instances, the Commission accepted and suspended the tariff sheets, permitting them to become effective, but subject in all three cases to further action by the Commission following receipt of a report from the Commission Staff.

2. On January 27, 2004, and February 6, 2004, the Commission issued a “Notice Deferring Submission of Staff Report” from the original due dates to April 30, 2004. By this notice, the date by which the staff shall submit reports in the above-captioned matters shall be further deferred to no later than May 5, 2004.

By direction of the Commission. Commissioner Kelly not participating.
Magalie R. Salas,
Secretary.

[FR Doc. E4-925 Filed 04-26-04; 8:45 am]

BILLING CODE 6717-01-P